DEPARTMENT OF TRANSPORTATION

Federal Highway Administration

Environmental Impact Statement: Olmsted County, MN

AGENCY: Federal Highway Administration (FHWA), DOT.

ACTION: Notice of Intent to Terminate EIS.

SUMMARY: The FHWA is issuing this notice to advise the public that the Environmental Impact Statement (EIS) process for proposed highway improvements to Trunk Highway (TH) 14 in Olmsted County, Minnesota is terminated. The original Notice of Intent for this EIS process was published in the Federal Register on October 7, 2002.

FOR FURTHER INFORMATION CONTACT: Cheryl Martin, Environmental Engineer, Federal Highway Administration, Galtier Plaza, Suite 500, 380 Jackson Street, St. Paul, Minnesota 55101, Telephone (651) 291-6120; or Greg Paulson, P.E., Project Manager, Minnesota Department of Transportation—District 6, 2900 48th Street NW., Rochester, Minnesota 55901, Telephone (507) 286-7502; (651) 296-9930 TTY.

SUPPLEMENTARY INFORMATION: The FHWA, in cooperation with the Minnesota Department of Transportation (Mn/DOT) has terminated the EIS process begun in 2002 to address safety, operational, structural and geometric deficiencies on TH 14 from the end of the four-lane roadway on the east side of Rochester through Eyota, approximately eight miles, Olmsted County, Minnesota. The Scoping Decision Document for the project was approved by Mn/DOT on October 1, 2003. On December 18, 2003, Mn/DOT notified federal, state and local agencies through the Minnesota Environmental Quality Board's Distribution List that funding constraints have resulted in a delay in proceeding with the environmental review process for the project. At such time when funding is available to proceed with the project, the results of the scoping process will be reviewed and updated, as appropriate. Therefore, the EIS for this project has been terminated.

(Catalog of Federal Domestic Assistance Program Number 20.205, Highway Planning and Construction. The regulations implementing Executive Order 12372 regarding intergovernmental consultation on Federal programs and activities apply to this program.)

Issued on: October 2, 2008.
Cheryl B. Martin,
Environmental Engineer, Federal Highway Administration, St. Paul, Minnesota.

[FR Doc. E8-23991 Filed 10-9-08; 8:45 am]

BILLING CODE 4910-22-M